ENVIRONMENTAL PROTECTION AGENCY

[EPA-HQ-OPPT-2017-0406; FRL-9966-02]

Certain New Chemicals; Receipt and Status Information for June 2017

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from June 1, 2017 to June 30, 2017.

DATES: Comments identified by the specific case number provided in this document, must be received on or before October 27, 2017.

ADDRESSES: Submit your comments, identified by docket identification (ID) number EPA-HQ-OPPT-2017-0406, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (7407M), Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR parts 2.

2. Tips for preparing your comments. When preparing and submitting your comments, see the commenting tips at http://www.epa.gov/dockets/comments.html.

II. What action is the Agency taking?

This document provides receipt and status reports, which cover the period from June 1, 2017 to June 30, 2017, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 36 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From June 1, 2017 to June 30, 2017
Case No. | Received date | Projected notice end date | Manufacturer importer | Use | Chemical
P-17-0116 | 6/1/2017 | 8/30/2017 | Cardolite Corporation | (S) Polyurethane foam to raise the concrete slab | (G) Cashew nut shell liquid, branched polyester-polyether polyol.
P-17-0176 | 6/9/2017 | 9/7/2017 | CBI | (G) Battery ingredient | (G) Carbonic acid, alkyl carbomonocyclic ester.
P-17-0191 | 6/19/2017 | 9/17/2017 | CBI | (S) Polyurethane catalyst | (G) Alkyldiamine, aminoalkyl dimethylaminoalkyl dimethyl-, reaction products with propylene oxide.
P-17-0223 | 6/26/2017 | 9/24/2017 | CBI | (G) Additive, open, non-dispersive use | (G) Fatty acids, tall-oil, reaction products with 2-[(2-aminoalkyl)amino]alkanol, compounds (compds) with alkylene oxide-glycidyl o-tolyl ether polymer dihydrogen phosphate alkyl ether.
P-17-0239 | 6/5/2017 | 9/3/2017 | CBI | (G) Adhesive for open non-descriptive use | (G) Substituted carboxylic acid, polymer with 2,4-diisocyanato-1-methylbenzene, hexanedioic acid, alpha-hydro-omega-hydroxypoly[oxy(methyl-1,2-ethanediyl)], 1,1′-methylenebis[4-isocyanatobenzene], 2,2′-oxybis[ethanol], 1,1′-oxybis[2-propanol] and 1,2-propanediol.
P-17-0245 | 6/8/2017 | 9/6/2017 | CBI | (G) Adhesive for open, non-dispersive use | (G) Polyfluoropolyether derivative.
P-17-0270 | 6/7/2017 | 9/5/2017 | CBI | (G) Low refractive index coating | (G) Alkyl perfluorinated acryloyl ester.
P-17-0282 | 6/13/2017 | 9/11/2017 | Elantas Pdg, Inc | (S) This is a component of a mixture that is used as an impregnating varnish for stators and motors | (S) Isocyanic acid, polymethylenepolyphenylene ester, caprolactam- and phenol-blocked.
P-17-0290 | 6/28/2017 | 9/26/2017 | Cytec Industries, Inc | (S) Resins for use in adhesive formulations which will be used for bonding of aircraft and industrial parts | (G) Cycloaliphatic phenolic epoxy adduct.
P-17-0302 | 6/5/2017 | 9/3/2017 | CBI | (G) Synthetic lubricant for contained use industrial lubricant | (G) Neopentyl glycol ester of mixed linear and branched carboxylic acids.
P-17-0303 | 6/23/2017 | 9/21/2017 | CBI | (G) Component for tire | (G) Modified copolymer of buta-1,3-diene and styrene.
P-17-0312 | 6/9/2017 | 9/7/2017 | CBI | (G) Additive for electrocoat formulas | (G) Organic acid, compds. with bisphenol A-epichlorohydrin-polypropylene glycol diglycidyl ether polymer-disubstituted amine-disubstituted polypropylene glycol reaction products.
P-17-0313 | 6/9/2017 | 9/7/2017 | CBI | (G) Additive for electrocoat formulas | (G) Phenol, 4,4′-(1-methylethylidene)bis-, polymer with 2-(chloromethyl)oxirane and alpha-(2-oxiranylmethyl)-omega-(2-oxiranylmethoxy)poly[oxy(methyl-1,2-ethanediyl)], reaction products with disubstituted amine and disubstituted polypropylene glycol, organic acid salts.
P-17-0314 | 6/9/2017 | 9/7/2017 | CBI | (G) Additive for electrocoat formulas | (G) Organic acid, 2-substituted-, compds. with bisphenol A-epichlorohydrin-polypropylene glycol diglycidyl ether polymer-disubstituted amine-disubstituted polypropylene glycol reaction products.
P-17-0315 | 6/9/2017 | 9/7/2017 | CBI | (G) Additive for electrocoat formulas | (G) Phenol, 4,4′-(1-methylethylidene)bis-, polymer with alpha-(2-substituted-methylethyl)-omega-(2-substituted-methylethoxy)poly[oxy(methyl-1,2-ethanediyl)], 2-(chloromethyl)oxirane and alpha-(2-oxiranylmethyl)-omega-(2-oxiranylmethoxy)poly[oxy(methyl-1,2-ethanediyl)], alkylphenyl ethers, reaction products with disubstituted amine, organic acid salts.
P-17-0316 | 6/9/2017 | 9/7/2017 | CBI | (G) Additive for electrocoat formulas | (G) Organic acid, compds. with bisphenol A-epichlorohydrin-disubstituted polypropylene glycol-polypropylene glycol diglycidyl ether polymer alkylphenyl ethers-disubstituted amine reaction products.
P-17-0317 | 6/9/2017 | 9/7/2017 | CBI | (G) Additive for electrocoat formulas | (G) Organic acid, compounds with bisphenol A-epichlorohydrin-polypropylene glycol diglycidyl ether polymer-disubstituted polypropylene glycol reaction products.
P-17-0322 | 6/20/2017 | 9/18/2017 | CBI | (G) Auxiliary drier has little drying action in itself but is very useful in combination with Active driers in vehicles that show poor tolerance for lead, calcium can replace part of the lead with a larger amount of calcium to prevent the precipitation of the lead & maintain drying efficiency. Calcium is also useful as pigment wetting & dispersing agents & help to improve hardness & gloss & reduce “silkins” when ground with drier adsorbing pigments, calcium minimizes loss of dry by being preferentially absorbed | (G) Zinc naphthenate complexes.
P-17-0323 | 6/5/2017 | 9/3/2017 | CBI | (S) Reactive monomer for use in producing polymers | (G) 2-propenoic acid, branched alkyl ester.
P-17-0324 | 6/7/2017 | 9/5/2017 | CBI | (S) Chemical intermediate destructive use | (S) 2,4-hexadien-1-ol, 1-acetate, (2e,4e)-.
P-17-0326 | 6/8/2017 | 9/6/2017 | CBI | (G) Ultraviolet curable monomer | (G) Allyloxymethylacrylate.
P-17-0327 | 6/8/2017 | 9/6/2017 | Evonik Corporation | (S) Compounding, (S) Injection molding of special applications | (G) Polymer of aliphatic dicarboxylic acid and dicyclo alkane amine.
P-17-0328 | 6/13/2017 | 9/11/2017 | AGC Electronics America, Inc | (S) Tetrahydrofuran-2-carboxylic acid is used as an additive for controlling selectivity of chemical mechanical polishing (cmp) slurry used for semiconductor wafer polishing the additive helps to selectively protect certain thin film layers from polishing while some other layers are being polished from the wafer surface during cmp process | (S) Tetrahydrofuran-2-carboxylic acid.
P-17-0329 | 6/9/2017 | 9/7/2017 | CBI | (G) Intermediate used in synthesis | (G) Substituted haloaromatic trihaloalkyl-aromatic alkanone.
P-17-0330 | 6/23/2017 | 9/21/2017 | CBI | (S) Polyurethane which is cured and used in a sprocket for water treatment | (G) Hexanedioic acid, polymer with trifuntional polyol, 1,1′-methylenebis [isocyanatobenzene], and 2,2′-oxybis [ethanol].
P-17-0332 | 6/19/2017 | 9/17/2017 | Archroma U.S., Inc | (S) Optical brightener for use in paper applications | (G) Benzenesulfonic acid, (alkenediyl)bis[[[(hydroxyalkyl)amino]-(phenylamino)-triazin-2-yl]amino]-, N-(hydroxyalkyl) derivs., salts.
P-17-0333 | 6/26/2017 | 9/24/2017 | Miwon North America, Inc | (S) Reactive diluent for optical film coating | (G) 2-propenoic acid, mixed esters with heterocyclic dimethanol and heterocyclic methanol.
P-17-0336 | 6/27/2017 | 9/25/2017 | CBI | (S) Cathode material for lithium ion batteries | (S) Aluminum cobalt lithium nickel oxide.
P-17-0337 | 6/27/2017 | 9/25/2017 | CBI | (S) Cathode material for lithium ion batteries | (S) Aluminum boron cobalt lithium nickel oxide.
P-17-0338 | 6/27/2017 | 9/25/2017 | CBI | (S) Cathode material for lithium ion batteries | (S) Aluminum boron cobalt lithium magnesium nickel oxide.
P-17-0339 | 6/28/2017 | 9/26/2017 | Sasol Chemicals (USA), LLC | (S) Industrial/commercial surfactant | (S) Poly(oxy-1,2-ethanediyl), alpha-(2-butyloctyl)-omega-hydroxy-.
P-17-0339 | 6/28/2017 | 9/26/2017 | Sasol Chemicals (USA), LLC | (S) Agricultural chemicals, (S) Paints | (S) Poly(oxy-1,2-ethanediyl), alpha-(2-butyloctyl)-omega-hydroxy-.
P-17-0339 | 6/28/2017 | 9/26/2017 | Sasol Chemicals (USA), LLC | (S) Metal working fluid | (S) Poly(oxy-1,2-ethanediyl), alpha-(2-butyloctyl)-omega-hydroxy-.
P-17-0340 | 6/28/2017 | 9/26/2017 | Sasol Chemicals (USA), LLC | (S) Industrial/commercial surfactant, (S) Metal working fluid, (S) Agricultural Chemicals, (S) Paints | (S) Poly(oxy-1,2-ethanediyl), alpha-(2-hexyldecyl)-omega-hydroxy-.
P-17-0341 | 6/28/2017 | 9/26/2017 | Sasol Chemicals (USA), LLC | (S) Paints, (S) Agricultural chemicals, (S) Metal working fluid, (S) Industrial/commercial surfactant | (S) Alcohols, C16-20-branched, ethoxylated.
P-17-0342 | 6/28/2017 | 9/26/2017 | Sasol Chemicals (USA), LLC | (S) Agricultural chemicals, (S) Paints, (S) Metal working fluid, (S) Industrial/commercial surfactant | (S) Poly(oxy-1,2-ethanediyl), alpha-(2-octyldodecyl)-omega-hydroxy-.
P-17-0343 | 6/28/2017 | 9/26/2017 | CBI | (G) Corrosion inhibitor in aqueous systems | (G) Modified benzimidazole.
P-17-0345 | 6/30/2017 | 9/28/2017 | CBI | (G) Resin intermediate | (G) Polyurethane, methacrylate blocked.

For the 17 NOCs received by EPA during this period, Table 2 provides the following information (to the extent that such information is not claimed as CBI): The EPA case number assigned to the NOC; the date the NOC was received by EPA; the projected date of commencement provided by the submitter in the NOC; and the chemical identity.

Table 2—NOCs Received From June 1, 2017 to June 30, 2017
Case No. | Received date | Commencement date | Chemical
J-15-0036 | 6/30/2017 | 6/6/2017 | (G) Zymomonas mobilis genetically modified.
P-12-0277 | 6/28/2017 | 6/5/2017 | (S) Alkanes, C20-28, chloro.
P-12-0282 | 6/28/2017 | 6/5/2017 | (S) Alkanes, C14-16, chloro.
P-12-0283 | 6/28/2017 | 6/5/2017 | (S) Tetradecane, chloro derivs.
P-13-0303 | 6/29/2017 | 6/22/2017 | (G) Substituted phenol formaldehyde polymer.
P-13-0872 | 6/23/2017 | 5/31/2017 | (G) Alkyl triazine.
P-14-0311 | 6/15/2017 | 6/1/2017 | (S) Benzenepropanamide, 3,5-bis(1,1-dimethylethyl)-4-hydroxy-, N-C16-18-alkyl derivs.
P-14-0373 | 6/14/2017 | 8/4/2016 | (S) Neononanoic acid, ethenyl ester, polymer with butyl 2-methyl-2-propenoate, butyl 2-propenoate, ethenylbenzene, 2-hydroxyethyl 2-methyl-2-propenoate, methyl 2-methyl-2-propenoate and rel-(1r, 2r, 4r)-1,7,7-trimethylbicyclo [2.2.1]heptyl-2-yl 2 -methyl-2-propenoate.
P-14-0427 | 6/30/2017 | 6/26/2017 | (S) Nitrile hydratase.
P-14-0683 | 6/30/2017 | 6/28/2017 | (S) Tetradecane, chloro derivatives.
P-14-0684 | 6/30/2017 | 6/8/2017 | (S) Alkanes, C14-16, chloro.
P-14-0834 | 6/14/2017 | 7/8/2016 | (S) Cyclohexane, 1,1′-methylenebis[4-isocyanato-, homopolymer, 2-butoxyethanol- and polyethylene glycol mono-me ether-blocked.
P-15-0099 | 6/14/2017 | 2/19/2017 | (S) Phenol, 4,4′-(1-methylethylidene) bis-, polymer with 1,3-diisocyanatomethylbenzene, 1,1′-methylenebis [4-isocyanatobenzene], 2-methyloxirane and 2-methyloxirane polymer with oxirane ether with 1,2,3-propanetriol (3:1), me et ketone oxime-blocked.
P-15-0141 | 6/20/2017 | 6/5/2017 | (S) D-glucitol, 1-deoxy-1-(methylamino)-, N-(C16-18 and C18-unsaturated (unsatd.) acyl) derivs.
P-15-0431 | 6/19/2017 | 6/2/2017 | (G) C16-18 and C18-unsatd., polymer with alkyl triol and acid anhydride.
P-16-0079 | 6/14/2017 | 3/13/2017 | (G) Benzenedicarbonyl dichloride, polymer with 4,4′-(1-methylethylidene)bis hydroxy carbomonocycle.
P-16-0273 | 6/26/2017 | 6/4/2017 | (G) Alkyl heteromonocycle, polymer with heteromonocycle, carboxyalkyl alkyl ether.
P-16-0274 | 6/26/2017 | 6/4/2017 | (G) Alkyl heteromonocycle, polymer with heteromonocycle, carboxyalkyl alkyl ether.
P-16-0534 | 6/21/2017 | 5/31/2017 | (G) Alkyl alkenoic acid, polymer with alkenylcarbomonocycle telomer with substituted alkanoic acid hydroxyl alkyl substituted alkenyl substituted alkyl ester, polyalkylene glycol alkyl ether alkyl alkenoate, dialkylene glycol diheteromonocyclic ether and alkylcarbomonocyclic alkenoate, metal salt.
P-16-0535 | 6/21/2017 | 5/31/2017 | (G) Alkyl alkenoic acid, polymer with alkenylcarbomonocycle telomer with substituted alkanoic acid hydroxyl alkyl substituted alkenyl substituted alkyl ester, alkanediol diheteromonocyclic ether, polyalkylene glycol alkyl ether alkyl alkenoate and alkylcarbomonocyclic alkenoate, metal salt.
P-16-0536 | 6/21/2017 | 5/31/2017 | (G) Alkyl alkenoic acid, polymer with bis heteromonocyclic substituted alkyl carbomonocycle, alkenylcarbomonocycle telomer with substituted alkanoic acid hydroxyl alkyl substituted alkenyl substituted alkyl ester, polyalkylene glycol alkyl ether alkyl alkenoate and alkylcarbomonocyclicalkenoate, metal salt.
P-16-0543 | 6/23/2017 | 5/26/2017 | (G) Halogenophosphoric acid metal salt.
P-17-0010 | 6/30/2017 | 6/30/2017 | (G) Alkyl substituted alkenoic acid, alkyl ester, polymer with alkyl substituted alkenoate and alkenoic acid, hydroxy substituted[(oxoalkyl)oxy]alkyl ester, reaction products with alkanoic acid, dipentaerythritol and isocyanate substituted carbomonocycle, compounds with alkylamine.
P-17-0218 | 6/15/2017 | 6/15/2017 | (S) Bicycle[2.2.1]heptane-1-methanesulfonic acid, 7,7-dimethyl-2-oxo-, compd. with N,N-diethylethanamine (1:1).
P-17-0246 | 6/19/2017 | 6/5/2017 | (G) Polycarbonate polyol.

Authority: 15 U.S.C. 2601 et seq.

Dated: August 31, 2017.
Pamela Myrick,
Director, Information Management Division, Office of Pollution Prevention and Toxics.

[FR Doc. 2017-20749 Filed 9-26-17; 8:45 am]

BILLING CODE 6560-50-P